DEPARTMENT OF ENERGY

[OE Docket No. EA-257-B]

Application to Amend Authority to Export Electric Energy; Emera Energy Service, Inc.

AGENCY: Office of Electricity Delivery and Energy Reliability, DOE.

ACTION: Notice of application.

SUMMARY: Emera Energy Service, Inc. (EES) has applied to amend its authority to transmit electric energy from the United States to Canada pursuant to section 202(e) of the Federal Power Act.

DATES: Comments, protests, or requests to intervene must be submitted on or before May 8, 2006.

ADDRESSES: Comments, protests or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On April 5, 2002, the Department of Energy (DOE) issued Order No. EA-257 authorizing EES to transmit electric energy from the United States to Canada as a power marketer, primarily using international transmission facilities located at the United States border with Canada in the States of Maine and Vermont. On April 5, 2004, in Order No. EA-257-A, DOE renewed the EES authorization to export electric energy to Canada for a five-year term that expires on April 5, 2009.

On April 5, 2006, EES filed an application with DOE to amend the export authority contained in Order No. EA-257-A to add to its list of authorized export points the existing international transmission facilities presently owned by Basin Electric Power Cooperative, Bonneville Power Administration, International Transmission Company, Long Sault, Inc., Minnkota Power Cooperative, Inc., New York Power Authority, Niagara Mohawk Power Corp., and Northern States Power Company.

EES has indicated that during 2005 and 2006 it had inadvertently exported electric energy to Canada over one international transmission line for which it did not have export authority. ESS has requested that any export authority granted by DOE in this proceeding retroactively authorize those previously unauthorized exports.

ESS has also requested expedited treatment of this amendment application and that the authorization, if granted, be effective for a period of five years beginning May 1, 2006. In response to the ESS request, DOE has shortened the comment period to 15 days.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the EES application to export electric energy to Canada should be clearly marked with Docket EA-257-B. Additional copies are to be filed directly with Calvin Bell, Emera Energy Services, Inc., One Cumberland Place, Suite 102, Bangor, ME 04401 and Michael E. Small, Wendy N. Reed, Deborah C. Brentani, Wright & Talisman, P.C., 1200 G Street, NW., Suite 600, Washington, DC 20005 and Mr. Richard J. Smith, Assistant Secretary, Emera Energy Services, Inc., c/o Emera Incorporated, 1894 Barrington Street, 18th Floor, Barrington Tower, P.O. Box 910, Halifax, Nova Scotia, CANADA B3J 2W5.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.fe.doe.gov/programs/electricityregulation/. Upon reaching the Home page, scroll down and select “Pending Proceedings.”

Issued in Washington, DC, on April 17, 2006.
Anthony J. Como,
Director, Permitting and Siting, Office of Electricity Delivery and Energy Reliability.

[FR Doc. 06-3817 Filed 4-20-06; 8:45 am]

BILLING CODE 6450-01-P